DEPARTMENT OF ENERGY

Office of Science

Fusion Energy Sciences Advisory Committee

AGENCY: Department of Energy.

ACTION: Notice of open meeting.

SUMMARY: This notice announces a meeting of the Fusion Energy Sciences Advisory Committee. The Federal Advisory Committee Act (Public Law 92-463, 86 Stat. 770) requires that public notice of these meetings be announced in the Federal Register.

DATES: Tuesday, December 14, 2004, 9 a.m. to 6 p.m.; Wednesday, December 15, 2004, 9 a.m. to 12 noon.

ADDRESSES: The Marriott Gaithersburg Washingtonian Center, 9751 Washingtonian Boulevard, Gaithersburg, Maryland 20878, USA.

FOR FURTHER INFORMATION CONTACT: Albert L. Opdenaker, Office of Fusion Energy Sciences; U.S. Department of Energy; 1000 Independence Avenue, SW.; Washington, DC 20585-1290; Telephone: 301-903-4927.

SUPPLEMENTARY INFORMATION: Purpose of the Meeting: The main purpose of the meeting is for FESAC to finalize the report on the charge of establishing priorities for the fusion program. The program priorities that the FESAC will recommend for implementation will be established by identifying the scientific and technological issues that need to be addressed, proposing a series of campaigns to address these issues, and recommending the priority order in which the program should proceed with these campaigns.

Tentative Agenda

Tuesday, December 14, 2004.

○ Office of Science Perspective.

○ Office of Fusion Energy Sciences Perspective.

○ Presentation by the Priority Panel on its findings and recommendations.

○ Public comments.

Wednesday, December 15, 2004.

○ ITER Project Status.

○ Further discussions.

○ Adjourn.

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9 a.m. and 4 p.m., Monday through Friday, except Federal holidays.

Issued at Washington, DC, on October 22, 2004.
Rachel M. Samuel,
Deputy Advisory Committee Management Officer.

[FR Doc. 04-24055 Filed 10-26-04; 8:45 am]

BILLING CODE 6450-01-P